DEPARTMENT OF HOUSING AND URBAN DEVELOPMENT

[Docket No. FR-4719-FA-02]

Announcement of Funding Awards for Fiscal Year 2002; Community Development Work Study Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2002 Community Development Work Study Program (CDWSP). The purpose of this document is to announce the names and addresses of the award winners and the amount of the awards to be used to attract economically disadvantaged and minority students to careers in community and economic development, community planning and community management, and to provide a cadre of well-qualified professionals to plan, implement, and administer local community development programs.

FOR FURTHER INFORMATION CONTACT: Susan Brunson, Office of University Partnerships, U.S. Department of Housing and Urban Development, Room 8106, 451 Seventh Street, SW., Washington, DC 20410, telephone (202) 708-3061, extension 3852. To provide service for persons who are hearing- or speech-impaired, this number may be reached via TTY by dialing the Federal Information Relay Service on (800) 877-8399, or 202-708-1455. (Telephone numbers, other than the two “800” numbers, are not toll free.)

SUPPLEMENTARY INFORMATION: The CDWSP is administered by the Office of University Partnerships under the Assistant Secretary for Policy Development and Research. The Office of University Partnerships administers HUD's ongoing grant programs to institutions of higher education and creates initiatives which colleges and universities can bring their traditional missions of teaching, research, service, and outreach to bear on the pressing local problems in their communities.

The CDWSP was enacted in the Housing and Community Development Act of 1988. (Earlier versions of the program were funded by the Community Development Block Grant Technical Assistance Program from 1982 through 1987 and the Comprehensive Planning Assistance Program from 1969 through 1981.) Eligible applicants include institutions of higher education having qualifying academic degrees, and areawide planning organizations and States that apply on behalf of such institutions. The CDWSP funds graduate programs only. Each participating institution of higher education is funded for a minimum of three and maximum of five students under the CDWSP. The CDWSP provides each participating student up to $9,000 per year for a work stipend (for internship-type work in community building) and $5,000 per year for tuition and additional support (for books and travel related to the academic program). Additionally, the CDWSP provides the participating institution of higher education with an administrative allowance of $1,000 per student per year.

The Catalog of Federal Domestic Assistance number for this program is 14.512.

On February 8, 2002 (67 FR 6123) HUD published a Notice of Funding Availability (NOFA) announcing the availability of $3 million in FY 2002 funds for the CDWSP. The Department reviewed, evaluated and scored the applications received based on the criteria in the NOFA. As a result, HUD has funded the applications announced below, and in accordance with Section in accordance with Section 102(a)(4)(C) of the Department of Housing and Urban Development Reform Act of 1989 (103 Stat. 1987, U.S.C. 3545), the Department is publishing details concerning the recipients of funding awards, as set forth below.

List of Awardees for Grant Assistance Under the FY 2002 Community Development Work Study Program Funding Competition, by Name, Address, Phone Number, Grant Amount and Number of Students Funded

New England

1. University of Massachusetts-Lowell, Linda Concino, Research Foundation, 600 Suffolk Street, 2nd Floor, Lowell, MA 01854, (978) 934-4723. Grant: $90,000 to fund 3 students.

2. Southern New Hampshire University, Dr. Cathy LaForge, School of Community Economic Development, 2500 N. River Road, Manchester, NH 03106-1045, (603) 644-3137. Grant: $90,000 to fund 3 students.

New York/New Jersey

3. New School University, Dr. Susan Morris, New School University, Robert J. Milano School of Management and Urban Policy, 66 West 12th Street, New York, NY 10011, (212) 229-5311, ext. 1106. Grant: $90,000 to fund 3 students.

4. State University of New York-Buffalo, Dr. Henry L. Taylor, Jr., Research Foundation at SUNY, Suite 211 UB Commons, 520 Lee Entrance, Amherst, NY 14228, (716) 829-2133, ext. 212. Grant: $90,000 to fund 3 students.

Mid-Atlantic

5. Carnegie Mellon University, Dr. Brenda Peyser, Carnegie Mellon University, H. John Heinz III School of Public Policy and Management, 5000 Forbes Avenue, Pittsburgh, PA 15213, (412) 268-2162. Grant: $90,000 to fund 3 students.

6. University of Pittsburgh, Dr. David Y. Miller, University of Pittsburgh, Office of Research, 350 Thackeray Hall, Pittsburgh, PA 15260, (412) 648-2605. Grant: $90,000 to fund 3 students.

7. The Trustee of the University of Pennsylvania, Dr. Eugenie L. Birch, University of Pennsylvania, Department of City and Regional Planning, 3451 Walnut Street, P221 Franklin Building, Philadelphia, PA 19104-6205, (215) 898-8330. Grant: $90,000 to fund 3 students.

8. Metropolitan Washington Council of Governments, David Robertson, Metropolitan Washington Council of Governments, Human Service, Planning and Public Safety, 777 North Capitol Street, NE., Suite 300, Washington DC 20002, (202) 962-3260. Grant: $270,000 to fund 3 students each at the University of Maryland, the University of the District of Columbia, and George Mason University.

9. Virginia Polytechnic Institute and State University, Theodore Koebel, Office of Sponsored Programs, 460 Turner Street, Suite 306, Blacksburg, VA, 20406, (540) 231-3993. Grant: $90,000 to fund 3 students.

10. West Virginia University, Alan B. Martin, West Virginia University, Division of Public Administration, Office of Sponsored Program, 886 Chestnut Ridge Road, P.O. Box 6845, Morgantown, WV 26506-6845, (304) 293-7398. Grant: $85,514 to fund 3 students.

Southeast/Caribbean

11. Florida State University, Dr. Raymond E. Bye, Jr., Florida State University, Department of Urban and Regional Planning, 118 North Woodward Avenue, Tallahassee, FL 32306-4166, (850) 644-5260. Grant: $88,572 to fund 3 students.

12. Duke University, Dr. Donna L. Dyer, P.O. Box 90239, Durham, NC 27708, (919) 613-7383. Grant: $90,000 to fund 3 students.

13. University of North Carolina at Chapel Hill, Dr. Roberto Quercia, University of North Carolina at Chapel Hill, Center for Urban and Regional Studies, CB#4100, Room 300, Bynum Hall, Chapel Hill, NC 27599-4100, (919) 962-4766. Grant: $90,000 to fund 3 students.

14. Clemson University, Dr. M. Grant Cunningham, Clemson University, Department of Planning and Landscape Architecture, 300 Brackett Hall, Box 345702, Clemson, SC 29634-5702, (864) 656-1587. Grant: $88,005 to fund 3 students.

15. University of Tennessee at Chattanooga, Dr. Diane Miller, University of Tennessee at Chattanooga, Office of Grants and Research, 615 McCallie Avenue, Chattanooga, TN 37403, (423) 755-4431. Grant: $90,000 to fund 3 students.

Midwest

16. Southern Illinois University Edwardsville, Dr. T.R. Carr, Southern Illinois University Edwardsville, Public Administration and Policy Analysis, Campus Box 1046, Edwardsville, IL 62026-1046, (618) 650-3762. Grant: $89,028 to fund 3 students.

17. Minnesota State University-Mankato, Dr. Perry Wood, Minnesota State University-Mankato, Urban and Regional Studies Institute, Mankato, MN 56001, (507) 389-6949. Grant: $90,000 to fund 3 students.

18. University of Cincinnati, Dr. David Varady, University of Cincinnati, Office of Sponsored Programs, P.O. Box 210627, Cincinnati, OH 45221-0627, (513) 556-0215. Grant: $90,000 to fund 3 students.

19. Eastern Kentucky University, Dr. Terry Busson, Eastern Kentucky University, Department of Government, 521 Lancaster Avenue, Richmond, KY 40475, (859) 622-1019. Grant: $90,000 to fund 3 students.

20. Indiana University-South Bend, Dr. Leda McIntyre Hall, Indiana University, School of Public and Environmental Affairs, P.O. Box 1847, Bloomington, IN 47402. Grant: $89,868 to fund three students.

21. University of Michigan, Dr. Margaret Dewar, University of Michigan, Taubman College of Architecture & Urban Planning, Fleming Administration Building, 503 Thompson Street, Ann Arbor, MI 48109-2069, (734) 763-2528. Grant: $90,000 to fund 3 students.

22. University of Wisconsin-Milwaukee, Dr. Stephen Percy, University of Wisconsin-Milwaukee, Center for Urban Initiatives and Research, P.O. Box 340, Milwaukee, WI 53201, (414) 229-5916. Grant: $89,550 to fund 3 students.

Southwest

23. North Central Texas Council of Governments, Dr. R. Michael Eastland, North Central Texas Council of Governments, P.O. Box 5888, Arlington, TX 76005-5888, (817) 695-9103. Grant: $180,000 to fund 3 students each at the University of North Texas and the University of Texas at Arlington.

24. University of Texas at San Antonio, Noe Saldana, Department of Public Administration, 501 W. Durango, San Antonio, TX 78207, (210) 458-4340. Grant: $85,278 to fund 3 students.

25. The Regents of the University of New Mexico, Dr. Teresa Cordova, School of Architecture and Planning, Office of Research Services, 105 Scholes Hall, Albuquerque, NM 87131 (505) 277-3922. Grant: $87,000 to fund 3 students.

Great Plains

26. University of Nebraska at Omaha, Dr. Russell L. Smith, University of Nebraska at Omaha, School of Public Administration, 6001 Dodge Street, Omaha, NE 68182, (402) 554-2625. Grant: $86,558 to fund 3 students.

Pacific/Hawaii

27. California Polytechnic State University Foundation, Dr. Jill Keezer, California Polytechnic State University Foundation, Office of Sponsored Programs, Foundation Bldg., #15, San Luis Obispo, CA 93407, (805) 756-1123. Grant: $90,000 to fund 3 students.

28. University of Southern California, Dr. Tridib Banerjee, University of Southern California, School of Policy, Planning and Development, RGL 301, Los Angeles, CA 90089-0626, (213) 740-4724. Grant: $90,000 to fund 3 students.

29. University of Arizona, Georgia Ehlers, University of Arizona, Grants & Scholarship Development, P.O. Box 210066, Tucson, AZ 85721-0066, (520) 621-9103. Grant: $90,000 to fund 3 students.

Northwest/Alaska

30. Eastern Washington University, Dr. William Kelley, Eastern Washington University, Urban and Regional Planning Program, 3 Riverpoint, Spokane, WA 99202-1660, (509) 358-2226. Grant: $90,000 to fund 3 students.

Dated: June 12, 2002.
Lawrence L. Thompson,
General Deputy Assistant Secretary for Policy Development, Development and Research.

[FR Doc. 02-15384 Filed 6-18-02; 8:45 am]

BILLING CODE 4210-01-P